DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

EFFECTIVE DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alabama: Tuscaloosa (FEMA Docket No. D-7547) | City of Northport | September 19, 2003, September 26, 2003, The Tuscaloosa News | The Honorable Harvey Fretwell, Mayor of the City of Northport, P.O. Box 569, Northport, Alabama 35476 | December 26, 2003 | 010202 E
Alabama: Tuscaloosa (FEMA Docket No. D-7547) | City of Tuscaloosa | September 19, 2003, September 26, 2003, The Tuscaloosa News | The Honorable Alvin P. Dupont, Mayor of the City of Tuscaloosa, P.O. Box 2089, Tuscaloosa, Alabama 35403 | December 26, 2003 | 010203 E
Connecticut: Fairfield (FEMA Docket No. D-7547) | Town of Greenwich | September 12, 2003, September 19, 2003, Greenwich Time | Mr. Richard V. Bergstresser,Town of Greenwich First Selectman, Greenwich Town Hall, 101 Field Point Road, Greenwich, Connecticut 06830 | September 5, 2003 | 090008 C
Connecticut: Fairfield (FEMA Docket No. D-7547) | Town of Greenwich | September 29, 2003, October 6, 2003, Greenwich Time | Mr. Richard V. Bergstresser,Town of Greenwich First Selectman, Greenwich Town Hall, 101 Field Point Road, Greenwich, Connecticut 06830 | September 22, 2003 | 090008 C
Connecticut: New Haven (FEMA Docket No. D-7547) | Town of Madison | September 12, 2003, September 19, 2003, The Hartford Courant | Mr. Thomas S. Scarpati, Town of Madison First Selectman, Town Hall, 8 Campus Drive, Madison, Connecticut 06443 | December 19, 2003 | 090079 D
Connecticut: Windham (FEMA Docket No. D-7547) | Town of Windham | August 11, 2003, August 18, 2003, The Chronicle | Mr. Michael Paulhaus, Town of Windham First Selectman, 979 Main Street, Willimantic, Connecticut 06226-2200 | August 4, 2003 | 090119 D
Georgia: Fulton (FEMA Docket No. D-7547) | City of Alpharetta | October 10, 2003, October 17, 2003, Fulton County Daily Report | The Honorable Arthur Letchas, Mayor of the City of Alpharetta, Two South Main Street, Alpharetta, Georgia 30004 | October 3, 2003 | 130084 E
Georgia: Cobb (FEMA Docket No. D-7547) | Unincorporated Areas | August 1, 2003, August 8, 2003, Marietta Daily Journal | Mr. Samuel S. Olens, Chairman of the Cobb County Board of Commissioners, 100 Cherokee Street, Marietta, Georgia 30090-9680 | November 7, 2003 | 130052 F
Georgia: Cobb (FEMA Docket No. D-7547) | Unincorporated Areas | August 1, 2003, August 8, 2003, Marietta Daily Journal | Mr. Samuel S. Olens, Chairman of the Cobb County Board of Commissioners, 100 Cherokee Street, Marietta, Georgia 30090-9680 | July 15, 2003 | 130052 F
Georgia: Fulton (FEMA Docket No. D-7547) | Unincorporated Areas | August 1, 2003, August 8, 2003, Fulton County Daily Report | Mr. Thomas C. Andrews, Fulton County Manager, Fulton County Government Center, 141 Pryor Street, 10th Floor, Atlanta, Georgia 30303 | November 7, 2003 | 135160 E
Georgia: Gwinnett (FEMA Docket No. D-7547) | Unincorporated Areas | September 4, 2003, September 11, 2003, Gwinnett Daily Post | Mr. F. Wayne Hill, Chairman of the Gwinnett County Board of Commissioners, Justice and Administration Center, 75 Langley Drive, Lawrenceville, Georgia 30045 | December 11, 2003 | 130322 C
Georgia: Fulton (FEMA Docket No. D-7547) | City of Roswell | October 10, 2003, October 17, 2003, Fulton County Daily Report | The Honorable Jere Wood, Mayor of the City of Roswell, 38 Hill Street, Suite 115, Roswell, Georgia 30075 | October 3, 2003 | 130088 E
Georgia: Whitfield (FEMA Docket No. D-7547) | Unincorporated Areas | August 15, 2003, August 22, 2003, The Daily Citizen-News | Mr. Mike Babb, Chairman of the Whitfield County Board of Commissioners, P.O. Box 248, Dalton, Georgia 30772 | November 21, 2003 | 130193 C
Kentucky: (FEMA Docket No. D-7547) | Lexington-Fayette Urban County Government | August 6, 2003, August 13, 2003, The Lexington Herald-Leader | The Honorable Teresa Isaac, Mayor of the Lexington-Fayette Urban County Government, 200 East Main Street, 12th Floor, Lexington, Kentucky 40507 | July 29, 2003 | 210067 C
Maryland: Montgomery (FEMA Docket No. D-7547) | Unincorporated Areas | July 28, 2003, August 4, 2003, The Montgomery Journal | Mr. Douglas M. Duncan, Montgomery County Executive, Executive Office Building, 101 Monroe Street, Rockville, Maryland 20850 | November 3, 2003 | 240049 C
Massachusetts: Barnstable (FEMA Docket No. D-7577) | Town of Bourne | September 24, 2003, October 1, 2003, Cape Cod Times | Mr. Mark A. Tirrell, Chairman of the Town of Bourne Board of Selectmen, Bourne Town Hall, 24 Perry Avenue, Buzzards Bay, Massachusetts 02532 | September 17, 2003 | 255210 E
Massachusetts: Barnstable (FEMA Docket No. D-7547) | Town of Bourne | September 24, 2003, October 1, 2003, Cape Cod Times | Mr. Mark A. Tirrell, Chairman of the Town of Bourne Board of Selectmen, Bourne Town Hall, 24 Perry Avenue, Buzzards Bay, Massachusetts 02532 | September 17, 2003 | 255210 F
Mississippi: Harrison (FEMA Docket No. D-7547) | City of Biloxi | October 3, 2003, October 10, 2003, The Sun Herald | The Honorable A. J. Holloway, Mayor of the City of Biloxi, P.O. Box 429, 140 Lameuse Street, Biloxi, Mississippi 39530 | September 26, 2003 | 285252 C
New Jersey: Union (FEMA Docket No. D-7547) | Township of Scotch Plains | September 5, 2003, September 12, 2003, The Courier-News | The Honorable Martin L. Marks, Mayor of the Township of Scotch Plains, Municipal Building, 430 Park Avenue, Scotch Plains, New Jersey 07076 | December 12, 2003 | 340474 C
New Jersey: Somerset (FEMA Docket No. D-7547) | Borough of Watchung | September 5, 2003, September 12, 2003, The Courier-News | The Honorable Albert S. Ellis, Mayor of the Borough of Watchung, 15 Mountain Boulevard, Watchung, New Jersey 07069 | December 12, 2003 | 340447 C
North Carolina: Gaston (FEMA Docket No. D-7547) | City of Gastonia | August 18, 2003, August 25, 2003, The Gaston Gazette | The Honorable Jennifer T. Stultz, Mayor of the City of Gastonia, P.O. Box 1748, 181 South Street, Gastonia, North Carolina 28053-1748 | November 24, 2003 | 370100 E
Pennsylvania: Montgomery (FEMA Docket No. D-7547) | Township of Plymouth | August 29, 2003, September 5, 2003, The Times Herald | Ms. Karen Weiss, Township of Plymouth Manager, 700 Belvoir Road, Plymouth Meeting, Pennsylvania 19462 | August 20, 2003 | 420955 E
Rhode Island: Bristol (FEMA Docket No. D-7547) | Town of Bristol | September 12, 2003, September 19, 2003, Providence Journal | Mr. Joseph F. Parella, Bristol Town Administrator, Town Hall, Bristol, Rhode Island 02809-2208 | September 5, 2003 | 445393 F
South Carolina: Charleston (FEMA Docket No. D-7547) | Unincorporated Areas | September 15, 2003, September 22, 2003, Post and Courier | Mr. Roland H. Windham, Jr., Charleston County Administrator, 4045 Bridge View Drive, North Charleston, South Carolina 29405 | December 22, 2003 | 455413 G
South Carolina: Richland (FEMA Docket No. D-7547) | Unincorporated Areas | August 19, 2003, August 26, 2003, The State | Mr. T. Cary McSwain, Richland County Administrator, 2020 Hampton Street, P.O. Box 192, Columbia, South Carolina 29202 | November 25, 2003 | 450170 G
Tennessee: Nashville and Davidson (FEMA Docket No. D-7547) | Metropolitan Government | August 6, 2003, August 13, 2003, The Tennessean | The Honorable William Purcell Mayor of the Metropolitan Government of Nashville and Davidson County, 107 Metropolitan Courthouse, Nashville, Tennessee 37201 | August 29, 2003 | 470040 F
Tennessee: Williamson (FEMA Docket No. D-7547) | Unincorporated Areas | August 6, 2003, August 13, 2003, The Review Appeal | Mr. Roger S. Anderson, Williamson County Executive, 1320 West Main Street, Suite 100, Franklin, Tennessee 37064 | August 29, 2003 | 470204 E
Virginia: Prince William (FEMA Docket No. D-7547) | Unincorporated Areas | August 11, 2003, August 18, 2003, Potomac News | Mr. Craig Gerhart, Prince William County Executive, 1 County Complex Court, Prince William, Virginia 22192 | November 17, 2003 | 510119 D

(Catalog of Federal Domestic Assistance No. 83.100, “Flood Insurance.”)
Dated: April 7, 2004.
Anthony S. Lowe,
Mitigation Division Director, Emergency Preparedness and Response Directorate.

[FR Doc. 04-9215 Filed 4-22-04; 8:45 am]

BILLING CODE 9110-12-P